DEPARTMENT OF HOMELAND SECURITY

United States Immigration and Customs Enforcement

Agency Information Collection Activities: Revision of an Existing Information Collection; Comment Request

ACTION: 60-Day Notice of Information Collection for Review; Student and Exchange Visitor Information System (SEVIS); OMB Control No. 1653-0038.

The Department of Homeland Security, U.S. Immigration and Customs Enforcement (ICE), will be submitting the following information collection request for review and clearance in accordance with the Paperwork Reduction Act of 1995. The information collection is published to obtain comments from the public and affected agencies. Comments are encouraged and will be accepted for sixty days until January 10, 2011.

Written comments and suggestions regarding items contained in this notice, and especially with regard to the estimated public burden and associated response time should be directed to the Department of Homeland Security (DHS), Joseph M. Gerhart, Chief, Records Management Branch, U.S. Immigration and Customs Enforcement, 500 12th Street, SW., STOP 5705, Washington, DC 20536-5705.

Comments are encouraged and will be accepted for sixty days until January 10, 2011. Written comments and suggestions from the public and affected agencies concerning the proposed collection of information should address one or more of the following four points:

(1) Evaluate whether the proposed collection of information is necessary for the proper performance of the functions of the agency's, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Revision of a currently approved information collection.

(2) Title of the Form/Collection: Student and Exchange Visitor Information System (SEVIS).

(3) Agency form number, if any, and the applicable component of the Department of Homeland Security sponsoring the collection: Forms I-17 and I-20; U.S. Immigration and Customs Enforcement.

(4) Affected public who will be asked or required to respond, as well as a brief abstract: Primary: Not-for-profit institutions and individuals or households.

(5) An estimate of the total number of respondents and the amount of time estimated for an average respondent to respond:

Number of respondents | Form name/form No. | Average burden per response (in hours)
280,000 | Certificate of Eligibility for Nonimmigrant (F-1) Student Status—For Academic and Language Students/ICE Form I-20 (Students) | 0.5
90,000 | Certificate of Eligibility for Nonimmigrant (M-1) Student Status—For Academic and Language Students/ICE Form I-20 (Spouse/Dependents) | 0.5
280,000 | Optional Practical Training 12 Month Request/No Form | 0.083
12,000 | Optional Practical Training 17 Month Extension Request/No Form | 0.083
5,525 | Maintenance of SEVP Certification/ICE Form I-17 | 4

(6) An estimate of the total public burden (in hours) associated with the collection: 557,816 annual burden hours.

Comments and/or questions; requests for a copy of the proposed information collection instrument, with instructions; or inquiries for additional information should be directed to: Office of the Chief Financial Officer/OAM/Records Branch, U.S. Immigration and Customs Enforcement, 500 12th Street, SW., STOP 5705, Washington, DC 20536-5705.

Dated: November 4, 2010.
Katherine H. Westerlund,
Acting Branch Chief, Policy Branch, Student and Exchange Visitor Program, U.S. Immigration and Customs Enforcement, Department of Homeland Security.

[FR Doc. 2010-28301 Filed 11-9-10; 8:45 am]

BILLING CODE 9111-28-P